DEPARTMENT OF ENERGY

Federal Energy Regulatory Commission

Notice of Change of Commission Meeting Dates for 2002

August 2, 2002.

The Chairman has approved a change to the public meeting schedule for September through December 2002. The change consists of an additional public meeting scheduled for September 5, 2002. Accordingly, the revised schedule for public meetings for September through December 2002 is as follows:

Thursday, September 5, 2002

Wednesday, September 18, 2002

Wednesday, October 9, 2002

Wednesday, October 30, 2002

Wednesday, November 20, 2002

Wednesday, December 18, 2002

Magalie R. Salas,
Secretary.

[FR Doc. 02-20049 Filed 8-7-02; 8:45 am]

BILLING CODE 6717-01-P